DEPARTMENT OF THE TREASURY

United States Mint

Pricing for the 2015 American $1 Coin and Currency Set

AGENCY: United States Mint, Department of the Treasury.

ACTION: Notice.

SUMMARY: The United States Mint is announcing a price of $14.95 for the 2015 American $1 Coin and Currency Set.

FOR FURTHER INFORMATION CONTACT: Nanette Evans, Product Management Division Chief for Sales and Marketing; United States Mint; 801 9th Street NW.; Washington, DC 20220; or call 202-354-7500.

Authority: 31 U.S.C. 5111, 5112 & 9701.

Dated: July 29, 2015.
Richard A. Peterson,
Deputy Director for Manufacturing and Quality, United States Mint.

[FR Doc. 2015-19217 Filed 8-4-15; 8:45 am]

BILLING CODE P